DEPARTMENT OF THE INTERIOR

Fish and Wildlife Service

DEPARTMENT OF DEFENSE

Army Corps of Engineers

Notice of Intent To Prepare an Environmental Impact Statement/Environmental Impact Report for the South Bay Salt Ponds Restoration Project and the South San Francisco Bay Shoreline Study

AGENCIES: U.S. Fish and Wildlife Service, Interior; U.S. Army Corps of Engineers, Defense.

ACTION: Notice of intent.

SUMMARY: Pursuant to the National Environmental Policy Act of 1969, as amended (NEPA), the U.S. Fish and Wildlife Service (USFWS) and the U.S. Army Corps of Engineers (Corps) intend to prepare a joint programmatic Environmental Impact Statement/Environmental Impact Report (EIS/EIR) to address the potential impacts of the South Bay Salt Ponds Restoration Project and the South San Francisco Bay Shoreline Study, San Francisco Bay, California. The two projects are closely interrelated and proposed planning and actions would be done in coordination with each other. The California Department of Fish and Game (CDFG) will be the lead agency under the California Environmental Quality Act (CEQA).

Federal Lead Agencies Proposed and Connected Actions

The Federal Joint Lead Agencies are proposing to undertake two closely related actions that would help prevent flooding and provide for the restoration of the South Bay Salt Ponds. USFWS proposes to prepare a long-term restoration plan for the South Bay Salt Ponds, which includes managed pond and tidal marsh habitat, as well as flood management and recreation components. The proposed action would provide for implementation of the first phase (Phase 1) of the South Bay Salt Ponds restoration plan. The area of the FWS proposed project falls within the larger scope of the actions the Corps is proposing along South San Francisco Bay shoreline. The Corps is proposing to implement a series of activities for tidal and fluvial flood damage reduction, environmental restoration, and related purposes along the South San Francisco Bay shoreline. The Corps' feasibility study may include most of the components of the South Bay Salt Pond Restoration Project. Thus these interconnected actions are deserving of one cohesive EIS/EIR analysis.

Two public scoping meetings will be held to solicit comments on the environmental effects of the range of potential projects and the appropriate scope of the EIS/EIR. The public is invited to comment on environmental issues to be addressed in the EIS/EIR during these meetings.

DATES: Written comments from all interested parties are encouraged and must be received on or before December 9, 2004. The first of two public scoping meetings will be held on Tuesday, November 16, 2004, from 7 p.m. to 9 p.m. at the NASA Research Center, Building 943, Moffett Field, California. A second scoping meeting will be held on Wednesday, November 17, 2004, from 7 p.m. to 9 p.m. at Centennial Hall, 22292 Foothill Boulevard, Room 4, in Hayward, California. Persons needing reasonable accommodations in order to attend and participate in the public scoping meetings should contact Tim Corrigan at (510) 286-0325 sufficiently in advance of the meeting to allow time to process the request.

ADDRESSES: Written comments and requests for information should be sent to Margaret Kolar, Refuge Manager, U.S. Fish and Wildlife Service, San Francisco Bay NWR Complex. PO Box 524, Newark, California 94560, or Yvonne LeTellier, Project Manager, U.S. Army Corps of Engineers, 333 Market Street 8th Floor, San Francisco, California 94105-2197. Written comments may also be sent by facsimile to (510) 792-5828, or via e-mail through the public comments link on the South Bay Salt Ponds Restoration Project Web site, at www.southbayrestoration.org/Question_Comment.html. All comments received, including names and addresses, will become part of the administrative record and available to the public.

FOR FURTHER INFORMATION CONTACT: Margaret Kolar, Refuge Manager, U.S. Fish and Wildlife Service, San Francisco Bay NWR Complex, (510) 792-0222, or Yvonne LeTellier, Project Manager, U.S. Army corps of Engineers, (415) 977-8466. For questions concerning the CEQA process, contact Carl Wilcox, Habitat Conservation Manager, California Department of fish and Game, Region 3 Headquarters, PO Box 47, Yountville, California, 94559, telephone: (707) 944-5525.

SUPPLEMENTARY INFORMATION: The joint programmatic EIS/EIR will address both the proposed South Bay Salt Ponds Restoration Project and the South San Francisco Bay Shoreline Study. USFWS and the Corps propose to integrate the planning for these two projects, which have similar geographic scope and include restoration and flood management components.

Background

South Bay Salt Ponds Restoration Project

The South Bay Salt Ponds Restoration Project area comprises 15,100 acres of salt ponds and adjacent habitats in South San Francisco Bay which USFWS and CDFG acquired from the Cargill Salt Company in 2003. USFWS owns and manages the 8,000-acre Alviso pond complex and the 1,600-acre Ravenswood pond complex. CDFG owns and manages the 5,500-acre Eden Landing pond complex.

The Alviso pond complex consists of 25 ponds on the shores of the South Bay in Fremont, San Jose, Sunnyvale and Mountain View, in Santa Clara and Alameda Counties. The pond complex is bordered by the Palo Alto Baylands Nature Preserve and Charleston Slough on the west, on the south by Moffett Naval Air Station and Sunnyvale Baylands Park, and to the east by Coyote Creek and Cushing Parkway in Fremont. The Ravenswood pond complex consists of seven ponds on the bay side of the Peninsula, along both sides of Highway 84 west of the Dumbarton Bridge, and on the bayside of the developed areas of the City of Menlo Park in San Mateo County. Bayfront Park is directly west of the pond complex, and the Dumbarton Bridge approach and the Union Pacific Railroad are along its southern border.

The Eden Landing pond complex consists of 23 ponds on the shores of the East Bay, west of Hayward and Union City in Alameda County. The approach to the San Mateo Bridge and the CDFG Eden Landing Ecological Reserve form the northern boundary of the acquisition area. Alameda Creek Flood Control Channel and the Coyote Hills form the southern boundary.

South San Francisco Bay Shoreline Study

The South San Francisco Bay Shoreline Study area extends along South San Francisco Bay and includes the three pond complexes within the South Bay Salt Ponds Restoration Project area, which are described above, as well as shoreline and floodplain areas in the counties of Alameda, San Mateo, and Santa Clara.

The South San Francisco Bay Shoreline Study area includes the Alameda Creek Flood Control Channel in Alameda County, areas in San Mateo and Santa Clara Counties between the Ravenswood and Alviso pond complexes, including the City of Palo Alto, and several creeks within the Alviso pond complex in Santa Clara County. Three other parcels—Moffett Field (owned by NASA-Ames), Pond A4 (Alviso pond complex; owned by the Santa Clara Valley Water District), and Pond A18 (Alviso pond complex; owned by the City of San Jose)—are adjacent to the study area.

Project Description

South Bay Salt Ponds Restoration Project

The overarching goal of the South Bay Salt Ponds Restoration Project is to restore and enhance wetlands in the South San Francisco Bay while providing for flood management and wildlife-oriented public access and recreation.

The following project objectives were adopted by the South Bay Salt Ponds Restoration Project's Stakeholder Forum which includes representatives of local governments, environmental organizations, neighboring landowners, businesses, and community organizations:

1. Create restore, or enhance habitats of sufficient size, function, and appropriate structure to:

a. Promote restoration of native special-status plants and animals that depend on South San Francisco Bay habitat for all part of their life cycles.

b. Maintain current migratory bird species that utilize existing salt ponds and associated structures such as levees.

c. Support increased abundance and diversity of native species in various South San Francisco Bay aquatic and terrestrial ecosystem components, including plants, invertebrates, fish, mammals, birds, reptiles and amphibians.

2. Maintain or improve existing levels of flood protection in the South Bay area.

3. Provide public access and recreational opportunities compatible with wildlife and habitat goals.

4. Protect or improve existing levels of water and sediment quality in the South Bay, and take into account ecological risks caused by restoration.

5. Implement design and management measures to maintain or improve current levels of vector management, control predation on special-status species, and manage the spread of non-native species.

6. Protect the services provided by existing infrastructure (e.g., power lines, railroads).

USFWS and CDFG reviewed the proposed project objectives to ensure compliance with legal mandates, such as compatibility of wildlife with public access. Two additional evaluation factors were identified in the Alternatives Development Framework for comparative analysis:

7. Cost Effectiveness: Consider costs of implementation, management, and monitoring so that planned activities can be effectively executed with available funding.

8. Environmental Impact: Promote environmental benefit and reduce impacts to the human environment.

The South Bay salt ponds are now being managed by the U.S. Fish and Wildlife Service and the California Department of Fish and Game under an Initial Stewardship Plan which was evaluated in a March 2004 Final Environmental Impact Statement/Environmental Impact Report. The long-term restoration plan being evaluated in the present NEPA/CEQA process may include general plans for the entire project area as well as detailed design plans for a specific Phase I project.

South San Francisco Bay Shoreline Study

The Corps plans to prepare a Feasibility Report for the South San Francisco Bay Shoreline Study, pursuant to the following resolution by the U.S. House of Representatives Transportation and Infrastructure Committee, adopted July 24, 2002:

“Resolved by the Committee on Transportation and Infrastructure of the United States House of Representatives, that the Secretary of the Army is requested to review the Final Letter Report for the San Francisco Bay Shoreline Study, California, dated July 1992, and all related interims and other pertinent reports to determine whether modifications to the recommendations contained therein are advisable at the present time in the interest of tidal and fluvial flood damage reduction, environmental restoration and protection and related purposes along the South San Francisco Bay shoreline for the counties of San Mateo, Santa Clara and Alameda, California.”

The Corps proposes to conduct the South San Francisco Bay Shoreline Study in coordination with the South Bay Salt Ponds Restoration Project and in partnership with USFWS and CDFG. It is possible that the Corps' Feasibility Report may be released after the completion of the joint programmatic EIS/EIR, and supplemental NEPA documentation may be required to address the potential impacts of the South San Francisco Bay Shoreline Study and future phases of the long-term South Bay Salt Ponds Restoration Project. If a supplemental NEPA document is required, the agencies propose to tier off the joint programmatic EIS/EIR.

Alternatives

The joint programmatic EIS/EIR will consider a range of alternatives and their impacts, including the No Action Alternative. Scoping will be an early and open process designed to determine the issues and alternatives to be addressed in the EIS/EIR. For example, the range of alternatives may include varying mixes of managed ponds and tidal marsh habitat as well as varying levels and means of flood management and recreation and public access components which respond to the project objectives.

Content of the EIS/EIR

The EIS/EIR will identify the anticipated effects of the project alternatives (negative and beneficial) and describe and analyze direct, indirect, and cumulative potential environmental impacts of the project alternatives, including the No Action Alternative, in accordance with NEPA (40 CFR parts 1500-1508) and CEQA. For each issue listed below, the EIS/EIR will include a discussion of the parameters used in evaluating the impacts as well as recommended mitigation, indicating the effectiveness of mitigation measures proposed to be implemented and what, if any, additional measures would be required to reduce the impacts to a less-than-significant level. The EIS/EIR will include a proposed programmatic analysis of the long-term restoration project and flood management and recreation and public access components as well as a project-level analysis of the proposed Phase 1 project.

The list of issues presented below is preliminary both in scope and number. These issues are presented to facilitate public comment on the scope of the EIS/EIR, and are not intended to be all-inclusive or to be a predetermination of impact topics to be considered.

Biological Resources

The EIS/EIR will address the following issues and potential detrimental and beneficial impacts related to biological resources:

• Effects on population size for endangered species and other species of concern, including California clapper rail, snowy plover, California least tern, salt marsh harvest mouse, Chinook salmon and steelhead trout, and opportunities for movement and breeding between populations.

• Shifts in populations of migratory waterfowl and shorebirds.

• Increased habitat connectivity for all organisms that use multiple marsh and/or aquatic habitats, including birds, mammals, and fish.

• Potential for improved habitat connectivity with adjacent upland habitats.

• Potential loss of hypersaline wetlands and their unique communities.

• Reduction in predation for species of concern with larger habitat blocks.

• Increased nursery habitat in wetlands for fish.

• Potential for salmonid entrainment into managed ponds.

• Effects of Spartina alterniflora and the hybrid of this species.

Hydrology and Flood Management

The EIS/EIR will address the following issues and potential detrimental and beneficial impacts related to hydrology and flood management:

• Effects on the tidal regime and mixing, and related effects on salinity of Bay waters.

• Effects on high-tide water levels.

• Changes in tidal hydrodynamics, including tidal prism and tidal range in tidal sloughs, and resulting changes in channel geometry.

• Effects on flood flow conveyance as a result of converting salt ponds to tidal marsh.

• Potential decrease in wave energy associated with tidal marsh restoration and reduced erosion of flood protection levees.

Water and Sediment Quality

The EIS/EIR will address the following issues and potential detrimental and beneficial impacts related to water and sediment quality:

• Effects of salt pond levee breaches, including changes in salinity, turbidy, dissolved oxygen, BOD, and metals, PCBs and other pollutants of concern.

• Changes in residence time of water in the South Bay and related effects on water quality.

• Changes in mercury and/or methyl mercury concentrations, and other pollutants of concern, in Bay waters and sloughs.

• Potential to mobilize existing sediment contaminants, including mercury, PCBs, and other pollutants of concern.

• Potential contamination from outside sources, including urban runoff, wastewater discharges, imported sediment and atmospheric deposition.

Recreation and Public Access

The EIS/EIR will address the project's effects on existing recreation facilities and their use as well as the potential for expansion or creation of new facilities. The benefits and impacts of increased public access on biological resources and achieving the other project objectives will also be addressed.

Economics

The EIS/EIR will evaluate the economic effects of the alternatives, including effects on commercial fishing of Bay shrimp.

Cumulative Impacts

The EIS/EIR will examine the cumulative impacts of past, ongoing, and probable future projects affecting tidal marsh and estuarine habitats in the South Bay.

Environmental Analysis Process

The EIS/EIR will be prepared in compliance with NEPA and Council on Environmental Quality Regulations, contained in 40 CFR parts 1500-1508; and with CEQA, Public Resources Code Sec 21000 et seq., and the CEQA Guidelines as amended. Because requirements for NEPA and CEQA are somewhat different, the document must be prepared to comply with whichever requirements are more stringent. USFWS and the Corps will be Joint Lead Agencies for the NEPA process and CDFG will be the Lead Agency for the CEQA process. In accordance with both CEQA and NEPA, these Lead Agencies are responsible for the scope, content, and legal adequacy of the document. Therefore, all aspects of the EIS/EIR scope and process will be fully coordinated between these three agencies.

The scoping process will include the opportunity for public input during two public meetings and by written comments submitted during the 30 day scoping period.

The draft EIS/EIR will incorporate public concerns associated with the project alternatives identified in the scoping process and will be distributed for at least a 45-day public review and comment period. During this time, both written and verbal comments will be solicited on the adequacy of the document. The final EIS/EIR will address the comments received on the draft during public review and will be made available to all commenters on the draft EIS/EIR.

The final step in the Federal EIS process is the preparation of a Record of Decision, a concise summary of the decisions made by USFWS and the Corps. The Record, or Records, of Decision may be published no earlier than thirty days after publication of the Notice of Availability of the final EIS. The final step in the State EIR process is certification of the EIR, which includes preparation of a Mitigation Monitoring and Reporting Plan and adoption of its findings, should the project be approved.

This notice is provided pursuant to regulations for implementing the National Environmental Policy Act of 1969 (40 CFR 1501.7 and 1506.6).

Dated: November 1, 2004.
Russell Joe Bellmer,
Manager, California/Nevada Operations Office, U.S. Fish and Wildlife Service.
Dated: November 1, 2004.
Philip T. Feir,
Lieutenant Colonel, U.S. Army, Commanding.

[FR Doc. 04-24885 Filed 11-8-04; 8:45 am]

BILLING CODE 4310-55-M